DEPARTMENT OF HEALTH AND HUMAN SERVICES

Health Resources and Services Administration

National Advisory Council on the National Health Service Corps; Notice of Meeting

In accordance with section 10(a)(2) of the Federal Advisory Committee Act (Pub. L. 92-463), notice is hereby given of the following Federal advisory committee meeting. The meeting will be open to the public.

Name: National Advisory Council on the National Health Service Corps.

Date and Time: March 18, 2004; 5 p.m.-7 p.m.; March 19, 2004; 8:30 a.m.-5 p.m.; March 20, 2004; 9 a.m.-5:30 p.m.; March 21, 2004; 8 a.m.-10:30 a.m.

Place: Embassy Suites Hotel Raleigh/Crabtree, 4700 Creedmoor Road, Raleigh, NC 27612, 919-881-0000.

Agenda: The Council will be meeting in Raleigh, North Carolina, to focus on rural implementation issues of the National Health Service Corps (NHSC). Members will meet with local scholars, loan re-payers and program alumni. State Officials will also address council, including communities which have used NHSC services.

FOR FURTHER INFORMATION CONTACT: Tira Robinson, Division of National Health Service Corps, Bureau of Health Professions, Health Resources and Services Administration, Parklawn Building, Room 8A-55, 5600 Fishers Lane, Rockville, Maryland 20857, telephone (301) 594-4140.

Dated: December 17, 2003.
Tina M. Cheatham,
Acting Director, Division of Policy Review and Coordination.

[FR Doc. 03-31769 Filed 12-23-03; 8:45 am]

BILLING CODE 4165-15-P